DEPARTMENT OF LABOR

Employment and Training Administration

[TA-W-73,206]

Smurfit-Stone Container Corporation, Containerboard Mill, Including On-Site Leased Workers From KMW Enterprises and General Security Systems Corporation Ontonagon, MI; Amended Certification Regarding Eligibility To Apply for Worker Adjustment Assistance

In accordance with Section 223 of the Trade Act of 1974, as amended (“Act”), 19 U.S.C. 2273, the Department of Labor issued a Certification of Eligibility to Apply for Worker Adjustment Assistance on May 6, 2010, applicable to workers of Smurfit-Stone Container Corporation, Containerboard Mill, Ontonagon, Michigan including on-site leased workers from KMW Enterprises and General Security Systems Corporation, Ontonagon, Michigan. The Department's notice of determination was published in the Federal Register on May 28, 2010 (75 FR 30070).

At the request of the company official, the Department reviewed the certification for workers of the subject firm. The workers were engaged in the production of corrugated medium, which is used in the production of corrugated containers (cardboard boxes).

The company reports that workers leased from General Security System Corporation were employed on-site at the Ontonagon, Michigan location of Smurfit-Stone Container Corporation, Containerboard Mill, Ontonagon, Michigan. The Department has determined that these workers were sufficiently under the control of Smurfit-Stone Container Corporation, Containerboard Mill, Ontonagon, Michigan to be considered leased workers.

Based on these findings, the Department is amending this certification to include workers leased from General Security System Corporation working on-site at the Ontonagon, Michigan location of Smurfit-Stone Container Corporation, Containerboard Mill.

The amended notice applicable to TA-W-73,206 is hereby issued as follows:

All workers of Smufit-Stone Container Corporation, Containerboard Mill, including on-site leased workers from KMW Enterprises and General Security System Corporation, Ontonagon, Michigan, who became totally or partially separated from employment on or after December 18, 2008, through May 6, 2012, and all workers in the group threatened with total or partial separation from employment on the date of certification through two years from the date of certification, are eligible to apply for adjustment assistance under Chapter 2 of Title II of the Trade Act of 1974, as amended.

Signed in Washington, DC, this 28th day of June 2012.
Elliott S. Kushner,
Certifying Officer, Office of Trade Adjustment Assistance.

[FR Doc. 2012-16739 Filed 7-9-12; 8:45 am]

BILLING CODE 4510-FN-P